DEPARTMENT OF TRANSPORTATION

Pipeline and Hazardous Materials Safety Administration

49 CFR Parts 171, 172, 173, 174, 175, 176, 178 and 180

[Docket No. PHMSA-2017-0108 (HM-215O)]

RIN 2137-AF32

Hazardous Materials: Harmonization With International Standards

Correction

In rule document 2020-06205, beginning on page 27810, in the issue of Monday, May 11, 2020, make the following correction:

On page 27852, in the second column, amendatory instruction 2d is corrected to read as follows:

§ 171.7 [Corrected]

d. Add paragraphs (w)(53), (62), (66), (69), (71), (72), and (75) through (77);

[FR Doc. C1-2020-06205 Filed 12-2-20; 8:45 am]

BILLING CODE 1301-00-D